DEPARTMENT OF EDUCATION

[Docket No.: ED-2023-SCC-0091]

Agency Information Collection Activities; Comment Request; Statewide Longitudinal Data System (SLDS) Survey 2023-2025

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before July 24, 2023.

ADDRESSES: To access and review all the documents related to the information collection listed in this notice, please use http://www.regulations.gov by searching the Docket ID number ED-2023-SCC-0091. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-8240.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Statewide Longitudinal Data System (SLDS) Survey 2023-2025.

OMB Control Number: 1850-0933.

Type of Review: A revision of a currently approved ICR.

Respondents/Affected Public: State, local, and Tribal governments.

Total Estimated Number of Annual Responses: 75.

Total Estimated Number of Annual Burden Hours: 94.

Abstract: The National Center for Education Statistics (NCES), of the Institute of Education Sciences (IES), within the U.S. Department of Education, is requesting clearance to continue the Statewide Longitudinal Data System (SLDS) Survey collection, which is intended to provide insight on State and U.S. territory SLDS capacity for automated linking of K-12, teacher, postsecondary, workforce, career and technical education (CTE), adult education, and early childhood data. Historically, SLDS has collected information annually from State Education Agencies (SEAs) and has helped inform NCES ongoing evaluation and targeted technical assistance efforts to enhance the quality of the SLDS Program's support to States regarding systems development, enhancement, and use. The request to conduct all activities related to SLDS 2021-2023, including materials and procedures, was approved by OMB in October 2021 (OMB#1859-0933 v.10).

This new request is to conduct all activities related to SLDS 2023-25, continuing usage of the Qualtrics information collection tool initiated in the 2023 collection. The appendices include updated communications, webinars, and Qualtrics instrument screenshots related to the SLDS 2023-25 collection. While minor adjustments were made to questions and language, the primary change proposed in this package is a shift from an annual to a biennial collection. Nationwide, SLDS system capacity changes frequently (ex. Infrastructure enhancements, evolving P20W agency collaborations, State legislation impacts, etc.), but analysis demonstrates that the COVID-19 pandemic stagnated the work to some extent. The 2019-20 Statistics in Brief and accompanying data file (anticipated May 2023 publication release) indicate very little change in results over the two-year period, indicating that shifting to an every-other-year collection would allow for more timely releases of data, with no adverse effect on the integrity of the information.

Dated: May 18, 2023.
Stephanie Valentine,
PRA Coordinator, Strategic Collections and Clearance, Governance and Strategy Division, Office of Chief Data Officer, Office of Planning, Evaluation and Policy Development.

[FR Doc. 2023-10943 Filed 5-22-23; 8:45 am]

BILLING CODE 4000-01-P